DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2018, through October 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: November 30, 2018.
George Sigounas,
Administrator.

List of Petitions Filed

Diane Tobin, New London, Connecticut, Court of Federal Claims No: 18-1516V

2. John Homan, Peoria, Illinois, Court of Federal Claims No: 18-1517V

3. Sharon Borris, Tiffin, Ohio, Court of Federal Claims No: 18-1518V

4. Edward Boni, Pittsburgh, Pennsylvania, Court of Federal Claims No: 18-1519V

5. Erin M. Kinney, Linwood, New Jersey, Court of Federal Claims No: 18-1522V

6. Michael J. Periard, Ithaca, New York, Court of Federal Claims No: 18-1524V

7. Anne M. Alexander on behalf of Marilyn Osborne Rock, Deceased, Denver, Colorado, Court of Federal Claims No: 18-1525V

8. Thomas Bade, Pearl River, New York, Court of Federal Claims No: 18-1526V

9. Deana Knowles, Middle Granville, New York, Court of Federal Claims No: 18-1527V

10. Dionni De La Cruz, Houston, Texas, Court of Federal Claims No: 18-1528V

11. Anthony Sanders, Alexandria, Louisiana, Court of Federal Claims No: 18-1529V

12. Janice Y. Atencio, Espanola, New Mexico, Court of Federal Claims No: 18-1530V

13. Dawna Michelle Cox on behalf of David Carroll Cox, Deceased, Shelbyville, Kentucky, Court of Federal Claims No: 18-1531V

14. William C. Carter, Prospect Hill, North Carolina, Court of Federal Claims No: 18-1532V

15. Sarah Huff, St. Petersburg, Florida, Court of Federal Claims No: 18-1533V

16. Jamie Blaylock, Overland Park, Kansas, Court of Federal Claims No: 18-1534V

17. Kenneth A. Bradley, Naples, Maine, Court of Federal Claims No: 18-1535V

18. Joan Benz, Maryland Heights, Missouri, Court of Federal Claims No: 18-1536V

19. Kristen Iniguez on behalf of K. J. I., San Diego, California, Court of Federal Claims No: 18-1537V

20. Durenda Whitehead and Keynard Shawtell Johnson, Sr. on behalf of K. S. J. Jr., Macon, Georgia, Court of Federal Claims No: 18-1538V

21. LaDonna Foster, Willow Brook, Illinois, Court of Federal Claims No: 18-1540V

22. Annie Brown, White Plains, New York, Court of Federal Claims No: 18-1542V

23. Heather Massey, Salt Lake City, Utah, Court of Federal Claims No: 18-1543V

24. Rebeca A. Nolan, Saugerties, New York, Court of Federal Claims No: 18-1544V

25. Randy L. Taylor, Longview, Texas, Court of Federal Claims No: 18-1545V

26. Dorn Dyttmer, Gwinn, Michigan, Court of Federal Claims No: 18-1546V

27. Paulette Falbo, Northport, New York, Court of Federal Claims No: 18-1547V

28. Robert Fulling, Chicago, Illinois, Court of Federal Claims No: 18-1549V

29. Elizabeth Valdez, San Mateo, California, Court of Federal Claims No: 18-1550V

30. Lori A. Hughes, Madison, Wisconsin, Court of Federal Claims No: 18-1554V

31. Jennifer Schlata, Pittsburgh, Pennsylvania, Court of Federal Claims No: 18-1557V

32. Natalia A. Augustine, Westmont, Illinois, Court of Federal Claims No: 18-1558V

33. Kathy Cummings Gillim, Farmington Hills, Michigan, Court of Federal Claims No: 18-1560V

34. Linda Wirtshafter, Woodmere, Ohio, Court of Federal Claims No: 18-1562V

35. Thomas A. Metzger, Newport, Washington, Court of Federal Claims No: 18-1565V

36. Pamela A. Stricker and Jerry Stricker on behalf of Pamela Stricker, Lima, Ohio, Court of Federal Claims No: 18-1569V

37. Kathleen Bartholomew, Park Forest, Illinois, Court of Federal Claims No: 18-1570V

38. Michael Lusk, Granite Bay, California, Court of Federal Claims No: 18-1571V

39. Lee Meagher, Danvers, Massachusetts, Court of Federal Claims No: 18-1572V

40. Debbie Buck, Murray, Utah, Court of Federal Claims No: 18-1573V

41. Georgie Fletcher, Brooklyn, New York, Court of Federal Claims No: 18-1574V

42. Paxton T. King, Middleton, Wisconsin, Court of Federal Claims No: 18-1575V

43. Raghu Duggirala, Philadelphia, Pennsylvania, Court of Federal Claims No: 18-1578V

44. Maryam Shahbazian, Santa Clara, California, Court of Federal Claims No: 18-1580V

45. Jennifer Durant, Boston, Massachusetts, Court of Federal Claims No: 18-1581V

46. Carol A. Allen, Easton, Massachusetts, Court of Federal Claims No: 18-1582V

47. Patrick Patterson, Lubbock, Texas, Court of Federal Claims No: 18-1583V

48. Daniel J. Petrie, Arcade, New York, Court of Federal Claims No: 18-1584V

49. Gertrude Smilo on behalf of Joseph G. Smilo, Deceased, Pittsburgh, Pennsylvania, Court of Federal Claims No: 18-1585V

50. Elizabeth Austin, Boston, Massachusetts, Court of Federal Claims No: 18-1587V

51. Michele Peterson, Webster Groves, Missouri, Court of Federal Claims No: 18-1589V

52. Scott Bowsher and Candy Bowsher on behalf of M. B., Rockville, Indiana, Court of Federal Claims No: 18-1590V

53. Lisa Sinko, Farmington Hills, Michigan, Court of Federal Claims No: 18-1592V

54. Travis Reitter, Oakland, California, Court of Federal Claims No: 18-1593V

55. Connie Tregle, Lake Charles, Louisiana, Court of Federal Claims No: 18-1596V

56. Scott Skiles and Misty Skiles on behalf of M. S., Boston, Massachusetts, Court of Federal Claims No: 18-1597V

57. Brenda L. Slay, Salina, Kansas, Court of Federal Claims No: 18-1598V

58. Michele Bernardo, West Chester, Pennsylvania, Court of Federal Claims No: 18-1599V

59. Lisa Whitehead-Williams, Chicago, Illinois, Court of Federal Claims No: 18-1600V

60. Linda Chervenok, Paterson, New Jersey, Court of Federal Claims No: 18-1601V

61. Andres Nieves, Novi, Michigan, Court of Federal Claims No: 18-1602V

62. Jimmie L. Foster, Asheville, North Carolina, Court of Federal Claims No: 18-1605V

63. Jesus Romo-Villanueva, Tucson, Arizona, Court of Federal Claims No: 18-1609V

64. Frances Basler, Spokane Valley, Washington, Court of Federal Claims No: 18-1614V

65. Richard Brieseacher, Mount Vernon, Illinois, Court of Federal Claims No: 18-1616V

66. Deborah Ann Dunatov, Douglasville, Georgia, Court of Federal Claims No: 18-1617V

67. Carol McCarvell, Austin, Texas, Court of Federal Claims No: 18-1618V

68. Kelsey Rathjen, Littleton, Colorado, Court of Federal Claims No: 18-1619V

69. Dawn Brooks, Millville, New Jersey, Court of Federal Claims No: 18-1620V

70. Michele Nelson Ruppert, San Francisco, California, Court of Federal Claims No: 18-1621V

71. Michael Francesco, Maiden, North Carolina, Court of Federal Claims No: 18-1622V

72. Robert G. Canady and Sita S. Canady on behalf of A.G.C., Fredericksburg, Virginia, Court of Federal Claims No: 18-1624V

73. Roy Romero, San Antonio, Texas, Court of Federal Claims No: 18-1625V

74. William Lederer, Norwalk, Connecticut, Court of Federal Claims No: 18-1627V

75. Allison Ferrini on behalf of W.F., Morton Grove, Illinois, Court of Federal Claims No: 18-1628V

76. Patricia Moore on behalf of Dr. Timonthy Moore, Deceased, Phoenix, Arizona, Court of Federal Claims No: 18-1629V

77. Glenda Lee Stewart, Chicago, Illinois, Court of Federal Claims No: 18-1630V

78. Cheryl Kraemer, Madison Heights, Michigan, Court of Federal Claims No: 18-1631V

79. Douglas F. Crawford, Panorama City, California, Court of Federal Claims No: 18-1632V

80. William S. Boylston, McMinnville, Oregon, Court of Federal Claims No: 18-1634V

81. Nancy Henderson, Myrtle Creek, Oregon, Court of Federal Claims No: 18-1635V

82. Helen Marie Pell, Indianapolis, Indiana, Court of Federal Claims No: 18-1636V

83. Virginia Powell, Dallas, Texas, Court of Federal Claims No: 18-1638V

84. Kathleen Mitzner, Livingston, Montana, Court of Federal Claims No: 18-1639V

85. Azusa Nash on behalf of U.C.N., Richmond, Virginia, Court of Federal Claims No: 18-1640V

86. Christopher W. Lindbloom, Richmond, Virginia, Court of Federal Claims No: 18-1642V

87. Francesca Ohanian, Foster City, California, Court of Federal Claims No: 18-1643V

88. Rebecca Huffman, Fort Wayne, Indiana, Court of Federal Claims No: 18-1646V

89. Brenda Rae Smith, Bethesda, Maryland, Court of Federal Claims No: 18-1648V

90. Betty Jeter on behalf of Estate of Rexford N. Jeter, Deceased, Montgomery, Alabama, Court of Federal Claims No: 18-1649V

91. Tina Walker, Fredericksburg, Pennsylvania, Court of Federal Claims No: 18-1650V

92. Rosanne Ledet, Washington, District of Columbia, Court of Federal Claims No: 18-1651V

93. Nancy Spotanski, Ballwin, Missouri, Court of Federal Claims No: 18-1653V

94. Gareth Acton, Pittsburgh, Pennsylvania, Court of Federal Claims No: 18-1654V

95. John R. Harnisch, Pleasant Prairie, Wisconsin, Court of Federal Claims No: 18-1656V

96. Kristine Rucker-Morrow, Chicago, Illinois, Court of Federal Claims No: 18-1657V

97. Cecilia Ruzzene, Knoxville, Tennessee, Court of Federal Claims No: 18-1658V

98. Claudine Carter, South Euclid, Ohio, Court of Federal Claims No: 18-1659V

99. Sheree Kaufman, Greensboro, North Carolina, Court of Federal Claims No: 18-1661V

100. Angela Holt, Stafford, Virginia, Court of Federal Claims No: 18-1662V

101. Anne Jacqueline Kite, Spotsylvania, Virginia, Court of Federal Claims No: 18-1663V

102. Eric Larson, Columbia, Maryland, Court of Federal Claims No: 18-1666V

103. Robert Tafuri, Marlborough, Massachusetts, Court of Federal Claims No: 18-1667V

104. Dawn Halley, Cranbury, New Jersey, Court of Federal Claims No: 18-1668V

105. Madeleine Soares, Dallas, Texas, Court of Federal Claims No: 18-1669V

106. Karlee Tessmer, Pewaukee, Wisconsin, Court of Federal Claims No: 18-1672V

107. Tonya Clark, Junction City, Kansas, Court of Federal Claims No: 18-1673V

108. Martha Walker, Ocean City, New Jersey, Court of Federal Claims No: 18-1674V

109. Deborah Flynn, Annapolis, Maryland, Court of Federal Claims No: 18-1675V

110. Cecilia Nuss, St. Charles, Illinois, Court of Federal Claims No: 18-1676V

111. Debra H. Childress, Midlothian, Virginia, Court of Federal Claims No: 18-1677V

112. Tamra K. Craig, Westfield, Indiana, Court of Federal Claims No: 18-1678V

113. Mary Finch, Chipley, Florida, Court of Federal Claims No: 18-1680V

114. Joan Neptune, Franklin, Tennessee, Court of Federal Claims No: 18-1681V

115. Lindsey Miller, Los Angeles, California, Court of Federal Claims No: 18-1682V

116. April L. Strang-Kutay, Lancaster, Pennsylvania, Court of Federal Claims No: 18-1683V

[FR Doc. 2018-26760 Filed 12-10-18; 8:45 am]

BILLING CODE 4165-15-P